DEPARTMENT OF THE INTERIOR

Fish and Wildlife Service

Availability of a Habitat Conservation Plan and Receipt of an Application for an Incidental Take Permit for the Northern Spotted Owl, Boise Cascade Corporation, Klickitat County, WA

AGENCY: Fish and Wildlife Service, Interior.

ACTION: Notice of availability.

SUMMARY: This notice advises the public that the Boise Cascade Corporation (Boise) has applied to the Fish and Wildlife Service (Service) for an incidental take permit pursuant to section 10(a)(1)(B) of the Endangered Species Act of 1973, as amended (Act). The application has been assigned permit number TE 028219-0. The proposed permit would authorize the incidental take, in the form of habitat modification (i.e., harm), of the northern spotted owl (Strix occidentalis caurina), a species that is federally listed as threatened. The proposed duration of the permit and habitat conservation plan (HCP) is 5 years, or as long as the owl site is active. We also announce the opening of a 30-day comment period to receive comments from the public on Boise's incidental take permit application and the accompanying proposed HCP. The HCP fully describes the proposed project and the measures Boise will undertake to minimize and mitigate for project impacts to the owl. These measures and associated impacts are also described in the background and summary information that follow. We also request comments from the public on our preliminary determination that Boise's HCP would qualify as a “Low Effect” HCP, eligible for a categorical exclusion under the National Environmental Policy Act, as provided by the Department of the Interior Manual (516 DM2, Appendix 1 and 516 DM 6, Appendix 1). The basis for this determination is discussed in an Environmental Action Statement, which is also available for public review. All comments received will become part of the public record and will be available for review pursuant to section 10(c) of the Act.

DATES: Written comments must be received by 5 p.m. on May 31, 2001.

ADDRESSES: Comments should be addressed to the State Supervisor, Fish and Wildlife Service, Western Washington Office, 510 Desmond Drive SE, Suite 102, Lacey, Washington 98503, fax number (306) 753-9518 (for further information and instruction on the reviewing and commenting process, see Public Review and Comment section below).

FOR FURTHER INFORMATION CONTACT: Mr. Joseph Zisa, Fish and Wildlife Service, Western Washington Office, telephone (360) 534-9330.

SUPPLEMENTARY INFORMATION: Section 9 of the Act and Federal regulation prohibit the taking of a species listed as endangered or threatened. The term “take” is defined under the Act to mean harass, harm, pursue, hunt, shoot, wound, kill, trap, capture or collect, or to attempt to engage in any such conduct. “Harm” is defined to include significant habitat modification or degradation where it actually kills or injures wildlife by significantly impairing essential behavioral patterns, including breeding, feeding, and sheltering (50 CFR 17.3). However, under limited circumstances the Service may issue permits to take listed species, provided such take is incidental to, and not the purpose of, an otherwise lawful activity. Regulations governing permits for threatened species are promulgated in 50 CFR 17.32. Regulations governing permits for endangered species are promulgated in 50 CFR 17.22.

Background

The proposed permit area occurs within Boise's 34,000-hectare (ha) (84,000-acre (ac)) Simcoe District ownership in the eastern Cascade Mountains of Washington. The actual area covered by the proposed permit and HCP is 250 ha (620 ac) of Boise ownership within owl site #459, centered in section 27, township 6 north, range 15 east. The proposed permit area occurs in the ponderosa pine zone, an ecotype that historically provided little habitat for spotted owls. In the last century, fire suppression and other aspects of forest management have allowed large areas to transition to grand fir and douglas fir habitat types that provide more habitat for the species. However, even in light of these historically recent conditions, the proposed permit area occurs at the extreme southern and eastern edge of current spotted owl distribution within Washington. Immediately to the south and east, central Klickitat County is not forested. To the west, the main population of owls is on Federal lands in the Cascade Mountains, approximately 50 kilometers (km) (30 miles (mi)) from owl site #459. The area in-between is dominated by non-Federal land and contains only a few scattered owl sites'the nearest of these being about 16 km (10 mi) away. A fairly large owl population cluster (approximately 25 to 35 sites) occurs to the north, largely in the Klickitat River basin within the Yakama Indian Reservation, and site #459 is at the extreme edge of that cluster.

As is common throughout the eastern portion of the owl's range, the human-induced fir habitat types within the proposed permit area are being degraded by severe and chronic insect infestations. In addition to direct degradation and mortality of fir trees, such infestations result in massive accumulation of standing and downed wood fuels that increase the likelihood of fires that will remove not only the damaged stands, but also healthier neighboring stands. Spruce budworm infestations have heavily impacted large acreages within and nearby the proposed permit area in the last decade. Recent surveys by Service and Washington Department of Natural Resources personnel indicate that the majority of douglas fir and grand fir which dominate stands within the proposed permit area are being defoliated and are either in advanced stages of decline or already dead. The ponderosa pine component of these stands is not impacted directly by the spruce budworm.

Less than 60 ha (150 ac) of the 2,635-ha (6,511-ac) likely home range radius of owls at site #459 are classified as suitable habitat, including 35 ha (86 ac) within the proposed permit area. This amount of habitat is far below the acreage typically thought necessary to maintain long-term viability of owl sites in this portion of the species' range.

The proposed permit area also includes a portion of Bowman Creek, a fish-bearing stream that is a tributary of the Little Klickitat River. Bull trout (Salvelinus confluentus) and other listed or proposed salmonids are not known to occur on Bowman Creek or its down stream confluence, the Little Klickitat River (Carl Dugger, Washington Department of Fish and Wildlife, Goldendale, Washington, pers. comm.). A 15-meter (50-foot) waterfall on the Little Klickitat River below the confluence with Bowman Creek may serve as a barrier to fish passage into the proposed permit area. No other federally threatened or endangered plants or animals are known to exist in the permit area.

The requested section 10 permit would authorize the incidental take of spotted owls associated with one currently occupied owl site. Boise proposes harvest of severely and chronically insect-damaged forest within this owl site. While this harvest will not result in removal of known suitable habitat while the site remains occupied, operations within adjacent non-suitable habitat or within forest classified as non-suitable but perhaps occasionally used by owls, could result in some harm or harassment of the owls at this site. Issuance of the permit would provide Boise with certainty that such unintended and specifically unpredictable consequences do not result in violations of the Act.

Under the proposed action, Boise would limit harvest, through seasonal restrictions and harvest deferrals and prescriptions. Harvest would be limited not only within suitable owl habitat, but also within other forest areas adjacent to the habitat, and harvest deferrals would be retained for a longer period of time than would otherwise be necessary. Boise also would increase monitoring of owls associated with the proposed permit area—including implementation of a radio-telemetry project to monitor the response of the owls to the proposed management activities, and financial contribution to an ongoing owl population study in the region. All associated information would be included in mandatory reports to the Service. Seasonal restrictions also would be imposed on these management actions so that reproductive and fledgling activities of the owls are not disturbed.

We have made a preliminary determination that the Boise HCP qualifies as a Low Effect HCP as defined by the Service's Habitat Conservation Planning Handbook. Low Effect HCPs are those involving: (1) minor or negligible effects on federally listed and candidate species and their habitats; and (2) minor or negligible effects on other environmental values or resources. As more fully explained in the Service's preliminary Low Effect Determination, the Boise HCP qualifies as a Low Effect HCP for the following reasons:

(1) Approval of the HCP would result in minor or negligible effects on the owl and other listed or proposed species. Occurrence of threatened northern spotted owls on the permit lands is limited to one occupied site. There is a possibility that this site may be subject to incidental take as a result of the proposed action. Several facts lead to the conclusion that loss of this site due to incidental take would have a negligible impact on the long-term survival of the species: Loss of the site would probably occur even absent issuance of the permit; this owl site occurs at the very edge of the species range and is relatively isolated; the site is not associated with any Late Successional Reserve or other owl population cluster designated for long-term conservation purposes; the status of the local owl population (east of the national forests in Yakima and Klickitat counties) is most substantially influenced by natural conditions and management actions on the Yakama Indian Reservation and other nearby lands. Except for the owl, no listed or proposed animals occur on the proposed permit lands; due to the presence of a natural fish passage barrier, no bull trout, steelhead (Oncorhynchus mykiss) or other anadromous fish are known to occur on the proposed permit lands and no salmonid habitat impacts would result from issuance of the permit. No listed or proposed plant species are known to occur on the proposed permit lands;

(2) The HCP would not have adverse effects on unique geographic, historic or cultural sites, or involve unique or unknown environmental risks;

(3) Approval of the HCP would not result in any cumulative impacts and would not result in significant adverse effects on public health or safety;

(4) The project does not require compliance with Executive Order 11988 (Floodplain Management), Executive Order 11990 (Protection of Wetlands), or the Fish and Wildlife Coordination Act, nor does it threaten to violate a Federal, state, local or tribal law or requirement imposed for the protection of the environment; and

(5) Approval of this HCP would not establish a precedent for future action or represent a decision in principle about future actions with potentially significant environmental effects.

We have therefore made a preliminary determination that approval of the Boise HCP qualifies as a categorical exclusion under the National Environmental Policy Act, as provided by the Department of the Interior Manual (516 DM2, Appendix 1 and 516 DM 6, Appendix 1). Based upon this preliminary determination, we do not intend to prepare further National Environmental Policy Act documentation. We will consider public comments in making our final determination on whether to prepare such additional documentation.

This notice is provided pursuant to section 10(c) of the Act. We will evaluate the permit application, HCP, and comments submitted thereon to determine whether the application meets the requirements of section 10(a) of the Act. If we determine that the requirements are met, we will issue a permit for the incidental take of the northern spotted owl. The final permit decision will be made no sooner than 30 days from the date of this notice.

Public Review and Comments

Individuals wishing copies of the permit application, copies of our preliminary Low Effect Determination, or copies of the full text of the HCP, including a map of the proposed permit area, references, and legal descriptions of the proposed permit area, should contact the office and personnel listed in the ADDRESSES section above.

If you wish to comment on the permit application or the HCP, you may submit your comments to the address listed in the ADDRESSES section of this document. For internal tracking purposes, please refer to permit number TE 028219-0 when submitting comments. Comments and materials received, including names and addresses of respondents, will be available for public review, by appointment, during normal business hours at the address in the ADDRESSES section above and will become part of the public record, pursuant to section 10(c) of the Act. Individual respondents may request that we withhold their home address from the record, which we will honor to the extent allowable by law. There also may be circumstances in which we would withhold from the record a respondent's identity, as allowable by law. If you wish us to withhold your name and/or address, you must state this prominently at the beginning of your comment. Anonymous comments will not be considered. All submissions from organizations or businesses, and from individuals identifying themselves as representatives or officials of organizations or businesses, are available for public inspection in their entirety.

Dated: April 19, 2001.
Don Weathers,
Deputy Regional Director, Region 1, Portland, Oregon.

[FR Doc. 01-10763 Filed 4-30-01; 8:45 am]

BILLING CODE 4210-55-P